NUCLEAR REGULATORY COMMISSION

[Docket No. 50-286]

Entergy Nuclear Operations, Inc.; Notice of Withdrawal of Application for Amendment to Facility Operating License

The U.S. Nuclear Regulatory Commission (the Commission) has granted the request of Entergy Nuclear Operations, Inc. (the licensee) to withdraw its September 7, 2000, application for proposed amendment to Facility Operating License No. DPR-64 for the Indian Point Nuclear Generating Unit No. 3, located in Westchester County, New York.

The proposed amendment would have modified the Technical Specifications to extend the surveillance frequency from 720 hours to 1440 hours for the Fuel Storage Building Emergency Ventilation system. The Commission had previously issued a Notice of Consideration of Issuance of Amendment published in the Federal Register on November 15, 2000 (65 FR 69064). However, by letter dated July 16, 2001, the licensee withdrew the proposed change.

For further details with respect to this action, see the application for amendment dated September 7, 2000, and the licensee's letter dated July 16, 2001, which withdrew the application for license amendment. Documents may be examined, and/or copied for a fee, at the NRC's Public Document Room, located at One White Flint North, 11555 Rockville Pike (first floor), Rockville, Maryland. Publicly available records will be accessible electronically from the Agencywide Documents Access and Management Systems (ADAMS) Public Electronic Reading Room on the internet at the NRC Web site, http://www.nrc.gov/NRC/ADAMS/index/html. If you do not have access to ADAMS or if there are problems in accessing the documents located in ADAMS, contact the NRC Public Document Room (PDR) Reference staff at 1-800-397-4209, 301-415-4737 or by email to pdr@nrc.gov.

Dated at Rockville, Maryland, this 3rd day of August 2001.
For the Nuclear Regulatory Commission.
Guy S. Vissing,
Senior Project Manager, Section 1, Project Directorate I, Division of Licensing Project Management, Office of Nuclear Reactor Regulation.

[FR Doc. 01-19974 Filed 8-8-01; 8:45 am]

BILLING CODE 7590-01-P